DEPARTMENT OF THE INTERIOR

Fish and Wildlife Service

[Docket No. FWS-R7-ES-2024-0003; FXES111607MRG01-245-FF07CAMM00]

Marine Mammals; Letters of Authorization To Take Pacific Walruses, Polar Bears, and Northern Sea Otters in Alaska, in 2023

AGENCY: Fish and Wildlife Service, Interior.

ACTION: Notice of issuance.

SUMMARY: In accordance with the Marine Mammal Protection Act of 1972, as amended, the U.S. Fish and Wildlife Service (Service) issues letters of authorization (LOA) for the nonlethal take of polar bears and Pacific walruses incidental to oil and gas industry exploration, development, and production activities in the Beaufort Sea and the adjacent northern coast of Alaska. The Service also issues LOAs for the nonlethal take of northern sea otters incidental to pile driving and marine construction activities in the Gulf of Alaska. This notice announces the LOAs issued in calendar year 2023. The LOAs stipulate conditions and methods that minimize impacts to polar bears, Pacific walruses, and northern sea otters from these activities.

ADDRESSES:

Accessing documents: You may view the letters of authorization at https://www.regulations.gov under Docket No. FWS-R7-ES-2024-0003. Alternatively, you may request these documents from the person listed under FOR FURTHER INFORMATION CONTACT.

FOR FURTHER INFORMATION CONTACT: Charles Hamilton, U.S. Fish and Wildlife Service, 1011 East Tudor Road MS-341, Anchorage, AK 99503, by email at R7mmmregulatory@fws.gov or by telephone at (907) 786-3800. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On August 5, 2021, the U.S. Fish and Wildlife Service (Service) published in the Federal Register a final rule (86 FR 42982) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. These incidental take regulations are located in subpart J in part 18 of title 50 of the Code of Federal Regulations (CFR) and are effective through August 5, 2026. The rule prescribed a process under which we issue letters of authorization (LOA) to applicants conducting activities as described under the provisions of the regulations.

Each LOA stipulates conditions or methods that are specific to the activity and location. Holders of the LOAs must use methods and conduct activities in a manner that minimizes to the greatest extent practicable adverse impacts on Pacific walruses and polar bears and their habitat, and on the availability of these marine mammals for subsistence purposes. No intentional take or lethal incidental take is authorized under these regulations.

In accordance with section 101(a)(5)(A) of the Marine Mammal Protection Act (16 U.S.C. 1361 et seq.) and our regulations at 50 CFR part 18, subpart J, in 2023, we issued LOAs to the companies in the Beaufort Sea and adjacent northern coast of Alaska shown in table 1.

Table 1—Letters of Authorization Issued for Oil and Gas Development Activities in the Beaufort Sea, Alaska, in 2023
Company | Project | LOA #
Eni U.S. Operating Company Inc | Oil and gas drilling and production within the Nikaitchuq and Oooguruk Units on Alaska's North Slope | 23-01.
ASRC Consulting and Environmental Services | Well drilling and production test facility construction and operation for a methane hydrate project on the Kuparuk State 7-11-12 gravel pad within the Prudhoe Bay Unit on the North Slope of Alaska | 23-02.
Alyeska Pipeline Service Company | Operation and maintenance of the Trans Alaska Pipeline System, which extends from Pump Station 1 in the Prudhoe Bay Oilfield to the Valdez Marine Terminal | 23-03.
Oil Search Alaska, LLC | Oil and gas exploration and development within and adjacent to the Pikka Unit area and oil and gas exploration on Oil Search Alaska operated leaseholds on Alaska's North Slope | 23-04.
Hilcorp Alaska, LLC | Year-round oil and gas exploration, production, development, and support activities in the Milne Point, Duck Island (Endicott), Northstar Island, Prudhoe Bay, and Point Thomson operation areas located in the Beaufort Sea incidental take regulations area of the North Slope of Alaska | 23-05.
Hilcorp Alaska, LLC | An amendment request dated November 2, 2023, for 23-INC-05 to include three additional pad expansions, two additional road expansions, repair of the Northstar bench, and construction and use of an ice road from Niakuk to Endicott's main drilling island in the Mine Point, Duck Island (Endicott), and Northstar Island operational areas. Original LOA (23-INC-05) for year-round oil and gas exploration, production, development, and support activities in the Milne Point, Duck Island (Endicott), Northstar Island, Prudhoe Bay, and Point Thomson operation areas located in the Beaufort Sea incidental take regulations area of the North Slope of Alaska | 23-05 [Amended in Dec. 2023 from July 2023].
Hilcorp Alaska, LLC | A letter from the Service dated December 19, 2023, outlining additional monitoring and mitigation measures to reduce disturbance of a putative den identified through aerial infrared surveys and located within the 1-mile buffer zone of operations and infrastructure | 23-05 [Amended in Dec. 2023 from July 2023].
Conoco Philips Alaska Inc | Incidental take of polar bears during oil and gas activities associated with the Willow Development (Project) work in 2023-2024. Represents an extension of Willow LOA 22-INC-10, which expires August 6, 2023 | 23-06.
Conoco Philips Alaska Inc | Renewal request of 22-INC-09: Incidental take of polar bears and Pacific walrus that may occur during ConocoPhillips Alaska Inc.'s field-wide operations in the Kuparuk River, Western North Slope, Colville River, Greater Moose's Tooth, and Bear Tooth Units on the North Slope of Alaska | 23-07.
Glacier Oil and Gas | Incidental harassment of polar bears and Pacific walrus that may occur during Glacier Oil and Gas Corporation's oil production, facilities and pipeline maintenance, workovers of existing wells, and construction and maintenance of ice roads associated with the Badami oilfield near Mikkelsen Bay in the North Slope | 23-08.
Conoco Philips Alaska Inc | Incidental take of polar bears that may occur during CPAI's Ptarmigan Seismic Survey in the Greater Mooses Tooth, Bear Tooth, and non-unitized land on the North Slope of Alaska | 23-09.
ASRC Consulting and Environmental Services | Incidental take of polar bears associated with Lagniappe drilling program activities, including ice road and ice pad construction, ice road transportation, well drilling, and aircraft-supported cleanup for an oil and gas exploration well drilling project. Drilling located south of the Badami Unit | 23-10.
Oil Search Alaska, LLC | Amendment submitted on Jan. 18, 2023, to LOA 22-INC-04. Amendment pertains to the incidental take of polar bears that may occur during activities associated with oil and gas exploration and development within and adjacent to the Pikka Unit area and oil and gas exploration on OSA-operated leaseholds on Alaska's North Slope. Amendment allows for additional tundra travel to survey a pipeline route between Oliktok Point and the Kuparuk area and the construction of a 10-acre gravel pad alongside the NDA gravel road | 22-04 [Amended in 2023 from 2022].

On April 19, 2023, the Service published in the Federal Register a final rule (88 FR 24115) establishing regulations that allow us to authorize the nonlethal, incidental, unintentional take of small numbers of northern sea otters (Enhydra lutris kenyoni) during marine construction and pile-driving activities in coastal waters surrounding eight United States Coast Guard (USCG) facilities in the Gulf of Alaska. These incidental take regulations are located in subpart L in part 18 of title 50 of the Code of Federal Regulations (CFR) and are effective through May 19, 2028. The rule prescribed a process under which we issue LOAs to the USCG Guard conducting activities as described under the provisions of the regulations.

Each LOA stipulates conditions or methods that are specific to the activity and location. Holders of the LOAs must use methods and conduct activities in a manner that minimizes to the greatest extent practicable adverse impacts on northern sea otters and their habitat, and on the availability of northern sea otters for subsistence purposes. No intentional take or lethal incidental take is authorized under these regulations.

In accordance with section 101(a)(5)(A) of the Marine Mammal Protection Act (16 U.S.C. 1361 et seq.) and our regulations at 50 CFR part 18, subpart L, in 2023, we issued two LOAs to the USCG for their activities in the Gulf of Alaska shown in table 2.

Table 2—Letters of Authorization Issued to the U.S. Coast Guard (USCG) for Marine Construction and Pile-Driving Activities in the Gulf of Alaska
Company | Project | LOA #
USCG | Incidental take of small numbers of northern sea otters that may occur during activities associated with pile driving and marine construction activities in Cordova, Alaska | 23-CG-01
USCG | Incidental take of small numbers of northern sea otters that may occur during activities associated with improvements to the small boat fueling tank facility at USCG Station Valdez, Alaska | 23-CG-02

Authority: We issue this notice under the authority of the Marine Mammal Protection Act (16 U.S.C. 1361 et seq.).

Peter Fasbender,
Assistant Regional Director, Fisheries and Ecological Services, Alaska Region.

[FR Doc. 2024-09900 Filed 5-6-24; 8:45 am]

BILLING CODE 4333-15-P